DEPARTMENT OF THE INTERIOR

Bureau of Land Management

[WY-920-1620-00-EL, WYW146744]

Intent To Prepare an Environmental Impact Statement on a Lease Application Received From Jacobs Ranch Coal Company

AGENCY: Department of the Interior, Wyoming.

ACTION: Notice of Intent to Prepare an Environmental Impact Statement on a lease application received from Jacobs Ranch Coal Company for Federal coal in the decertified Powder River Federal Coal Production Region, Wyoming.

SUMMARY: The Bureau of Land Management (BLM) received a competitive coal lease application from Jacobs Ranch Coal Company (JRCC) on October 2, 1998, for a tract containing approximately 519 million tons of Federal coal and including approximately 4,821 acres in an area adjacent to the company's Jacobs Ranch Mine. This tract, which was assigned case number WYW146744, is called the North Jacobs Ranch tract. JRCC is a subsidiary of Kennecott Energy and Coal Company. The Jacobs Ranch Mine and North Jacobs Ranch tract are located in southern Campbell County, Wyoming. The tract was applied for as a maintenance tract lease-by-application (LBA) under the provisions of 43 CFR 3425.1. The Powder River Regional Coal Team (RCT) reviewed this lease application at public meetings held on February 23, 1999, in Billings, MT, and October 27, 1999, in Gillette, WY. The RCT recommended that the lease application be processed, pending resolution of the conflicts between proposed coal mining and existing and proposed oil and gas development (including coal bed methane) on the tract. BLM has determined that the requirements of NEPA would be best served by preparing an environmental impact statement (EIS) for this lease application.

BLM conducted scoping on the North Jacobs Ranch lease application, and on the pending Belle Ayr Federal coal lease application, in October 1999. A public scoping meeting was held at the Tower West Lodge in Gillette, WY, on October 19, 1999, at 7 p.m. During the scoping period, BLM received seven written comment letters. At the scoping meeting, presentations were made by the applicants for the North Jacobs Ranch and Belle Ayr Federal coal tracts and oral comments were received from six speakers.

DATES: The scoping period for this Federal coal lease application was held during October 1999, however, the public still has an opportunity to submit written comments on concerns or issues that the BLM should address in processing the North Jacobs Ranch lease application. Comments should be submitted by February 15, 2000, in order to be considered in the draft EIS.

ADDRESSES: Please address questions, comments or concerns to the BLM, Casper District Office, Attn: Nancy Doelger, 1701 East E Street, Casper, WY 82601, fax to 307-234-1525, or send e-mail comments to casper_wymail@blm.gov., attn: Nancy Doelger.

FOR FURTHER INFORMATION CONTACT: Nancy Doelger or Mike Karbs at the above address or phone 307-261-7600.

SUPPLEMENTARY INFORMATION: On October 2, 1998, JRCC filed coal lease application WYW146744, for the following lands in Campbell and County, Wyoming:

T. 44 N., R. 70 W., 6th PM, Wyoming

Section 26: Lots 9, 10;

Section 27: Lots 1 thru 16;

Section 28: Lots 1 thru 16;

Section 29: Lots 1 thru 16;

Section 30: Lots 5 thru 20;

Section 31: Lots 5 thru 20;

Section 32: Lots 1 thru 16;

Section 33: Lots 4, 5, 12, 13;

T. 44 N., R. 71 W., 6th PM, Wyoming

Section 25: Lots 1 thru 16.

The tract as applied for, which is referred to as the North Jacobs Ranch Tract, includes 4,821.19 acres, more or less, with an estimated 519 million tons of coal in place. As part of the coal leasing process, BLM will evaluate the tract configuration, and may decide to add or subtract Federal coal to avoid bypassing coal or to increase estimated fair market value.

The Jacobs Ranch Mine, which is adjacent to the lease application area, has an approved mining and reclamation plan from the Land Quality Division of the Wyoming Department of Environmental Quality. The mine has an approved air quality permit from the Air Quality Division of the Wyoming Department of Environmental Quality to mine up to 35 million tons of coal per year, and they have applied for an air quality permit to mine up to 55 million tons per year. According to the application filed for the North Jacobs Ranch LBA Tract, the maintenance tract would be mined to extend the life of the existing mine.

Using the LBA process, JRCC previously acquired maintenance coal lease WYW117924, containing approximately 1,709 acres and 147 million tons of minable coal adjacent to the Jacobs Ranch Mine, effective October 1, 1992.

The Office of Surface Mining Reclamation and Enforcement (OSM) will be a cooperating agency in the preparation of the EIS. If the North Jacobs Ranch LBA tract is leased to the applicant, the new lease must be incorporated into the existing mining plans for the adjacent mine and the Secretary of the Interior must approve the revised mining plan before the Federal coal in the tract can be mined. OSM is the Federal agency that would be responsible for recommending approval, approval with conditions, or disapproval of the revised mining plan to the Secretary if the tract is leased.

Several issues related to this lease application were identified during the scoping held during the month of October 1999. The primary issue raised in both written and oral comments is the need for resolution of the conflicts between existing and proposed oil and gas development and proposed coal mining on the North Jacobs Ranch LBA tract. Other issues identified during the scoping process included the potential impacts to big game herds and hunting, the potential impacts to sage grouse, the size of the tract as applied for, the need for considering the cumulative impacts of this leasing decision, the validity and currency of the resource data to be used in analyzing the impacts, the impact on existing land uses, the potential impacts to sensitive and endangered species including prairie dogs and mountain plover, and the potential impacts on air and water quality. If you have specific concerns about these issues, or have other concerns or issues that BLM should consider in processing this application, please address them in writing to the above address. Written comments should be received by February 15, 2000, in order to be fully considered in the draft EIS.

Comments, including names and street addresses of respondents, will be available for public review at the address listed above during regular business hours, 7:45 a.m.-4:30 p.m., Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: January 11, 2000.
Alan R. Pierson,
State Director.

[FR Doc. 00-1158 Filed 1-18-00; 8:45 am]

BILLING CODE 4310-22-P